DEPARTMENT OF ENERGY

Federal Energy Regulatory Commission

[Project No. 12751-000; Washington]

Finavera Renewables Ocean Energy, Ltd.; Notice of Availability of Environmental Assessment

May 31, 2007.

In accordance with the National Environmental Policy Act of 1969 and the Federal Energy Regulatory Commission's (Commission) regulations, 18 CFR part 380 (Order No. 486, 52 FR 47897), the Office of Energy Projects has reviewed the application for an original license for the Makah Bay Offshore Wave Energy Pilot Project to be located in part in Makah Bay of the Pacific Ocean in Clallam County, Washington and in part on the Makah Indian Reservation near Neah Bay, Washington, and has prepared an Environmental Assessment (EA) for the project. The EA contains the staff's analysis of the potential environmental impacts of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Any comments should be filed within 30 days from the date of this notice and should be addressed to: Kimberly D. Bose, Secretary, Federal Energy Regulatory Commission, 888 First Street, NE., Washington, DC 20426. Please affix Project No. 12751-000 to all comments. Comments may be electronically filed via the Internet in lieu of paper. The Commission strongly encourages electronic filings. See 18 CFR 385.2001(a)(1)(iii) and the instructions on the Commission's Web site (http://www.ferc.gov) under the “e-Filing” link.

For further information, contact Nicholas Jayjack at (202) 502-6073.

Kimberly D. Bose,
Secretary.

[FR Doc. E7-10833 Filed 6-5-07; 8:45 am]

BILLING CODE 6717-01-P